EXPORT-IMPORT BANK OF THE U.S.

[Public Notice 459]

Agency Information Collection Activities: Final Collection; Comment Request

AGENCY: Export-Import Bank of the U.S.

ACTION: Submission for OMB Review and Comments Request.

Form Title: Application for Long Term Loan or Guarantee (EIB 95-10).

SUMMARY: Export-Import (Ex-Im) Bank is requesting an emergency approval for form EIB 95-10 Application for Long Term Loan or Guarantee, OMB 3048-0013, because the Export Import Bank Reauthorization Act of 2012 has placed additional reporting requirements on the Bank.

The changes to this form are as follows:

1. Addition of a new participant role, Controlling Sponsor, to section 2 of the application. Section 18 of the Export-Import Bank Reauthorization Act of 2012 prohibits Ex-Im Bank's Board of Directors from approving “any transaction in which a person that is a borrower or controlling sponsor, or a person that is owned or controlled by such borrower or controlling sponsor, is subject to sanctions under section 5(a) of the Iran Sanctions Act.”. In order for Ex-Im Bank to ensure that the Board of Directors is in compliance with the prohibition, Ex-Im Bank needs to be able to identify the controlling sponsor for a transaction (Ex-Im Bank already asks on the application form who is the borrower for the transaction). Adding this question to the application form will allow Ex-Im Bank to identify the controlling sponsor.

2. Replace Section 6 of the application with new language and questions. Section 10 of the Export-Import Bank Reauthorization Act of 2012 adds a new paragraph (h) to Section 8 of Ex-Im Bank's Charter (12 USC 635g). The new section 8(h) of the Charter requires the Bank to categorize the purpose of each loan and long-term guarantee in the Bank's Annual report. The Reauthorization Act defines the appropriate/acceptable purposes. In order to provide this information to Congress, Ex-Im Bank needs to change the questions it was asking on the application form to align them with the specific purposes identified in the Act. Without this change, Ex-Im Bank will be unable to further break down unavailability of private sector financing into risk constraints vs. maturity limitations.

3. Change the percents in Section 5; sub-section C and sub-section H of the application form to indicate that Ex-Im Bank may have the ability to finance local costs up to 30% of the net contract price. There is an international agreement that was reached between Ex-Im Bank and its foreign competitors that allows Ex-Im Bank (and its competitors) to provide additional local cost financing. This increased availability and flexibility is important to U.S. exporters and helps enhance their competitiveness. Ex-Im Bank would like to make this change to the guidance in the application form to ensure customers are aware of this enhanced support.

The application can be viewed at www.exim.gov/pub/pending/eib95-10.pdf.

DATES: Comments should be received on or before November 13, 2012 to be assured of consideration.

ADDRESSES: Comments maybe submitted electronically on WWW.REGULATIONS.GOV or by mail to Michele Kuester, Export Import Bank of the United States, 811 Vermont Ave. NW. Washington, DC 20571.

SUPPLEMENTARY INFORMATION: Titles and Form Number: EIB 95-10 Application for Long Term Loan or Guarantee.

OMB Number: 3048-0013.

Type of Review: Emergency.

Need and Use: The information collected will provide information needed to determine compliance and creditworthiness for transaction requests submitted to the Export Import Bank under its long term guarantee and direct loan programs.

Affected Public: This form affects entities involved in the export of U.S. goods and services.

Annual Number of Respondents: 84.

Estimated Time per Respondent: 1.5 hours.

Government Annual Burden Hours: 2,100.

Frequency of Reporting or Use: Yearly.

Total Cost to the Government: $81,312.

Sharon A. Whitt,
Agency Clearance Officer.

[FR Doc. 2012-22465 Filed 9-11-12; 8:45 am]

BILLING CODE 6690-01-P